ENVIRONMENTAL PROTECTION AGENCY

40 CFR Part 51

[EPA-HQ-OAR-2008-0348; FRL-8784-5]

RIN 2060-AO58

Methods for Measurement of Filterable PM10 and PM2.5 and Measurement of Condensable Particulate Matter Emissions From Stationary Sources

Correction

In proposed rule document E9-6178 beginning on page in the issue of Wednesday, March 25, 2009 make the following corrections:

Appendix M to Part 51 [Corrected]

1. On page 12989, Equation 24 is reprinted to read as set forth below:

2. On page 12991, Equation 40 is reprinted to read as set forth below:

[FR Doc. Z9-6178 Filed 4-21-09; 8:45 am]

BILLING CODE 1505-01-D